DEPARTMENT OF COMMERCE

Under Secretary for Industry and Security

[O1-BXA-01]

In the Matter of: Jabal Damavand General Trading Company, P.O. Box 52130, Dubai United Arab Emirates, Respondent; Decision and Order

Correction

In notice document 02-11581 beginning on page 32009 in the issue of Monday, May 13, 2002 make the following correction:

On page 32009, in the third column, the subject line is corrected to read as set forth above.

[FR Doc. C2-11581 Filed 5-31-02; 8:45 am]

BILLING CODE 1505-01-D

DEPARTMENT OF DEFENSE

Department of the Army, Corps of Engineers

Intent to Prepare a Draft Environmental Impact Statement for the ACME Basin B Discharge Project

Correction

In notice document 02-13043 beginning on page 36577 in the issue of Friday, May 24, 2002 make the following correction:

On page 36578, in the second column, the BILLING CODE “3710-AS-M” should read “3710-AJ-M”.

[FR Doc. C2-13043 Filed 5-31-02; 8:45 am]

BILLING CODE 1505-01-D

DEPARTMENT OF ENERGY

Office of Energy Efficiency and Renewable Energy

10 CFR Part 430

[Docket Number EE-RM-98-440]

RIN 1904-AA77

Energy Conservation Program for Consumer Products; Central Air Conditioners and Heat Pumps Energy Conservation Standards

Correction

In rule document 02-12680 beginning on page 36368 in the issue of Thursday, May 23, 2002, make the following correction:

§430.32 [Corrected]

On page 36406, in §430.32 (c)(2), the table should read as set forth below.

(c)

* * * * *

(2) Central air conditioners and central air conditioning heat pumps manufactured on or after January 23, 2006 , shall have Seasonal Energy Efficiency Ratio and Heating Seasonal Performance Factor no less than:

Product class | Seasonal energy efficiency ratio (SEER) | Heating seasonal performance factor (HSPF)
(i) Split system air conditioners | 12 | —
(ii) Split system heat pumps | 12 | 7.4
(iii) Single package air conditioners | 12 | —
(iv) Single package heat pumps | 12 | 7.4
(v)(A) Through-the-wall air conditioners and heat pumps—split system | 10.9 | 7.1
(v)(B) Through-the-wall air conditioners and heat pumps—single package | 10.6 | 7.0
(vi) Small duct, high velocity systems | ¹ 10.0 | ¹ 6.8
¹ NAECA-prescribed value subject to amendment.

* * * * *

[FR Doc. C2-12680 Filed 5-31-02; 8:45 am]

BILLING CODE 1505-01-D

ENVIRONMENTAL PROTECTION AGENCY

[CA077-NOD; FRL-7215-1]

Notice of Deficiency for 34 Clean Air Act Operating Permits Programs in California

Correction

In notice document 02-12847 beginning on page 35990 in the issue of Wednesday, May 22, 2002 make the following correction:

On page 35991, in the second column, under the “III. Administrative Requirements” heading, in the sixth line, “July 22, 2002” should read “May 22, 2002”.

[FR Doc. C2-12847 Filed 5-31-02; 8:45 am]

BILLING CODE 1505-01-D

DEPARTMENT OF JUSTICE

Immigration and Naturalization Service

8 CFR Part 241

[INS No. 1847-97; AG Order No. 2579-2002]

RIN 1115-AE82

Requiring Aliens Ordered Removed from the United States to Surrender To the Immigration and Naturalization Service for Removal

Correction

In proposed rule document 02-11141 beginning on page 31157 in the issue of Thursday, May 9, 2002 make the following correction:

§ 241.17 [Corrected]

On page 31163, in the first column, § 241.17, the duplicate paragraph “(a)” should read paragraph “(b)”.

[FR Doc. C2-11141 Filed 5-31-02; 8:45 am]

BILLING CODE 1505-01-D

NUCLEAR REGULATORY COMMISSION

[NUREG-1600]

NRC Enforcement Policy; Modification, Medical Use

Correction

In notice document 02-9992 beginning on page 20187 in the issue of Wednesday, April 24, 2002, make the following correction:

On page 20187, in the third column, under the heading DATES, in the third line, “November 25, 2002” should read, “October 24, 2002”.

[FR Doc. C2-9992 Filed 5-31-02; 8:45 am]

BILLING CODE 1505-01-D